DEPARTMENT OF COMMERCE

National Oceanic and Atmospheric Administration

[I.D. 041904B]

Endangered Species; File No. 1295

AGENCY: National Marine Fisheries Service (NMFS), National Oceanic and Atmospheric Administration (NOAA), Commerce.

ACTION: Issuance of permit amendment.

SUMMARY: Notice is hereby given that the NMFS Northeast Fishery Science Center (Responsible Official- Dr. John Boreman) has been issued a modification to scientific research Permit No. 1295.

ADDRESSES: The modification and related documents are available for review upon written request or by appointment in the following offices:

Permits, Conservation and Education Division, Office of Protected Resources, NMFS, 1315 East-West Highway, Room 13705, Silver Spring, MD 20910; phone (301)713-2289; fax (301)713-0376;

Northeast Region, NMFS, One Blackburn Drive, Gloucester, MA 01930-2298; phone (978)281-9200; fax (978)281-9371.

FOR FURTHER INFORMATION CONTACT: Patrick Opay or Ruth Johnson, (301)713-2289.

SUPPLEMENTARY INFORMATION: On February 5, 2004, notice was published in the Federal Register (69 FR 5508) that a modification of Permit No. 1295, issued June 4, 2001 (66 FR 29934), had been requested by the above-named organization. The requested modification has been granted under the authority of the Endangered Species Act of 1973, as amended (ESA; 16 U.S.C. 1531 et seq.) and the regulations governing the taking, importing, and exporting of endangered and threatened species (50 CFR 222-226).

The modification authorizes the NEFSC (1) to conduct research designed to develop and test methods to reduce incidental bycatch of sea turtles that occurs in a commercial pound net fishery (2) to sample sea turtles captured during research designed to develop and test methods to reduce incidental bycatch of these species that occurs in scallop drag fisheries, and (3) to sample sea turtles captured during the NEFSC's biennial shark longline surveys. The modification would authorize an additional take of 113 loggerhead (Caretta caretta), 2 green (Chelonia mydas), 40 Kemp's Ridley (Lepidochelys kempii) and 2 leatherback (Dermochelys coriacea) sea turtles annually during the remaining 2 years of the existing permit. The research will be conducted in the shelf waters of the Atlantic Ocean from Florida to the Gulf of Maine. Up to 2 loggerhead and 3 Kemp's Ridley sea turtle interactions are expected to result in lethal takes annually.

Issuance of this modification, as required by the ESA was based on a finding that such permit (1) was applied for in good faith, (2) will not operate to the disadvantage of the endangered species which is the subject of this permit, and (3) is consistent with the purposes and policies set forth in section 2 of the ESA.

Dated: May 6, 2004.
Stephen L. Leathery,
Chief, Permits, Conservation and Education Division, Office of Protected Resources, National Marine Fisheries Service.

[FR Doc. 04-10785 Filed 5-11-04; 8:45 am]

BILLING CODE 3510-22-S